FEDERAL COMMUNICATIONS COMMISSION

[CG Docket No. 03-123; DA 07-5009]

The Consumer & Governmental Affairs Bureau Reports on the First Triennial Review of the Commission's Policies and Practices Under Section 504 of the Rehabilitation Act of 1973

AGENCY: Federal Communications Commission.

ACTION: Notice.

SUMMARY: In this document, the Consumer & Governmental Affairs Bureau (Bureau) reports on its review of the Commission's policies and practices under section 504 of the Rehabilitation Act of 1973. The Commission's rules mandate that it conduct a review of its current policies and practices in view of advances in relevant technology and achievability every three years. The report concludes that during the past three years, the Commission has successfully provided access to its programs and activities for people with disabilities in accordance with section 504 of the Rehabilitation Act.

ADDRESSES: Federal Communications Commission, 445 12th Street, SW., Washington DC 20554.

FOR FURTHER INFORMATION CONTACT: Diane Mason, Consumer & Governmental Affairs Bureau, Disability Rights Office at (202) 418-7126 (voice), (202) 418-7828 (TTY), or e-mail Diane.Mason@fcc.gov.

SUPPLEMENTARY INFORMATION: This is a summary of the Commission's document DA 07-5009, released December 17, 2007, in CG Docket No. 03-123. A copy of document DA 07-5009 will be available for public inspection and copying during regular business hours at the FCC Reference Information Center, Portals II, 445 12th Street, SW., Room CY-A257, Washington, DC 20554, (202) 418-0270. Document DA 07-5009 also may be purchased from the Commission's duplicating contractor at its Web site, http://www.bcpiweb.com, or by calling (800) 378-3160. Document DA 07-5009 also may be found by searching the Commission's Electronic Comment Filing System at http://www.fcc.gov/cgb/ecfs (insert CG Docket No. 03-123 into the Proceeding block).

To request materials in accessible formats for people with disabilities (Braille, large print, electronic files, audio format), send an e-mail to fcc504@fcc.gov or call the Consumer & Governmental Affairs Bureau at (202) 418-0530 (voice), (202) 418-0432 (TTY).

Synopsis

Pursuant to 47 CFR 1.1810, every three years the Commission must undertake a self-evaluation of its compliance with section 504 of the Rehabilitation Act of 1973, 29 U.S.C. 794. The year 2007 marked the end of the first triennium. The Bureau releases this report accordingly, which reviews disability access services provided during the past three years, considers comments from consumers served, and replies to the single filing submitted in response to the Public Notice seeking comment on the Commission's section 504 policies and practices, The Consumer & Governmental Affairs Bureau Seeks Comment on the Commission's Policies and Practices Under Section 504 of the Rehabilitation Act of 1973, CG Docket No. 03-123, DA 07-1396, published at 72 FR 19502, April 18, 2007. The report concludes that during the past three years, the Commission has successfully provided access to its programs and activities for persons with disabilities in accordance with section 504 of the Rehabilitation Act.

Background

By way of background, section 504 of the Rehabilitation Act prohibits discrimination against persons with disabilities under any program or activity receiving federal funds. In 1978, the Act was amended to include any program or activity conducted by an Executive Branch agency or the United States Postal Service. The 1978 amendments also required covered agencies to establish regulations to implement section 504's mandates. In 2003, the Commission released an order amending its section 504 rules, Amendment of Part 1, Subpart N of the Commission's Rules Concerning Non-Discrimination on the Basis of Disability in the Commission's Programs and Activities, FCC 03-48 (2003 Section 504 Order), published at 68 FR 22315, April 28, 2003. These amendments updated terminology to be consistent with current statutory language, supplied specifications for filing in alternative formats, outlined procedures for requesting reasonable accommodations, and established a triennial self-evaluation.

Concurrent with the release of the 2003 Section 504 Order, the Commission also produced and distributed the Federal Communications Commission Section 504 Programs and Activities Accessibility Handbook (Section 504 Handbook). Since the Section 504 Handbook functions as a centralized source for both disability information and accessibility best practices, it was also made available to the public via the Commission's Web site, at: http://www.fcc.gov/cgb/dro/section_504.html. Paper copies were supplied upon request.

In order to ensure that consumers with disabilities know how to request the access services they need, instructions for requesting reasonable accommodations are included on the Commission Web site, in most public documents, and in all consumer fact sheets and advisories. Requests for services are generally received via the Commission's FCC504 mailbox (FCC504@fcc.gov), the Disability Access telephone line (both voice and TTY), or by direct contact with the Commission's Section 504 Officer.

The report examines the access services provided by the Commission in the following eight forms from July 2004 through June 2007: sign language interpreting; captioning; CART (Computer Assisted Realtime Translation); re-voicing; Braille; large print; electronic formats (e.g., text, PDF); and audio (e.g., MP3 files, CDs). For each form of accommodation, the Commission attempts to acquire the best services available under the circumstances. When the Commission has received consumer reports of dissatisfaction with service providers (e.g., regarding turnaround times for Braille documents, sign language interpreters who have difficulty understanding specific deaf consumers), it has been able to work with the consumers to make sure that their preferences are noted when subsequent requests for accommodations are made. Overall, consumer feedback has been positive. The report concludes that the Commission does not need to modify its accessibility policies and practices at this time, but will continue to address specific accessibility issues as they arise.

Sorenson Communications, Inc. (Sorenson) filed comments on May 22, 2007, focusing on Video Relay Service (VRS) access issues. Sorenson notes that the Commission's public videophone located near the Commission Meeting Room on the TW level of the Portals II Building “appears to be dedicated to Federal Relay.” Sorenson asserts that “[t]he Commission's current practice of restricting on-premises callers to Federal Relay denies those callers the full access mandated” by section 504. Contrary to Sorenson's assertion, the Commission's public videophone does not require callers to use Federal Relay Service. Calls can be made peer-to-peer or through any VRS provider.

Sorenson also recommends that the information about VRS in the Commission's Section 504 Handbook be updated to reflect changes in the services offered through VRS providers—specifically, that VRS calls may now be initiated by hearing callers and that ASL-to-Spanish VRS services are available. These changes will be reflected in the next edition of the Section 504 Handbook.

Federal Communications Commission.
Nicole McGinnis,
Deputy Bureau Chief, Consumer & Governmental Affairs Bureau.

[FR Doc. E8-1166 Filed 1-23-08; 8:45 am]

BILLING CODE 6712-01-P